DEPARTMENT OF ENERGY

Federal Energy Regulatory Commission

Combined Notice of Filings #1

December 17, 2010.

Take notice that the Commission received the following electric rate filings:

Docket Numbers: ER93-3-009.

Applicants: The United Illuminating Company.

Description: Notice of Change in Status of The United Illuminating Company.

Filed Date: 12/16/2010.

Accession Number: 20101216-5193.

Comment Date: 5 p.m. Eastern Time on Thursday, January 06, 2011.

Docket Numbers: ER10-1362-001.

Applicants: Hatchet Ridge Wind, LLC.

Description: Hatchet Ridge Wind, LLC's Notice of Non-Material Change in Facts.

Filed Date: 12/16/2010.

Accession Number: 20101216-5194.

Comment Date: 5 p.m. Eastern Time on Thursday, January 06, 2011.

Docket Numbers: ER10-2823-001.

Applicants: Barton Windpower LLC.

Description: Barton Windpower LLC submits tariff filing per 35: Compliance Filing to Baseline MBR Tariff to be effective 9/22/2010.

Filed Date: 12/16/2010.

Accession Number: 20101216-5161.

Comment Date: 5 p.m. Eastern Time on Thursday, January 06, 2011.

Docket Numbers: ER10-2825-001.

Applicants: Big Horn II Wind Project LLC.

Description: Big Horn II Wind Project LLC submits tariff filing per 35: Compliance Filing to Baseline MBR Tariff to be effective 9/22/2010.

Filed Date: 12/16/2010.

Accession Number: 20101216-5164.

Comment Date: 5 p.m. Eastern Time on Thursday, January 06, 2011.

Docket Numbers: ER10-3098-001.

Applicants: The Connecticut Light and Power Company.

Description: The Connecticut Light and Power Company submits tariff filing per 35: Compliance filing, to be effective 12/1/2010.

Filed Date: 12/17/2010.

Accession Number: 20101217-5004.

Comment Date: 5 p.m. Eastern Time on Friday, January 07, 2011.

Docket Numbers: ER10-3103-001.

Applicants: Western Massachusetts Electric Company.

Description: Western Massachusetts Electric Company submits tariff filing per 35: Compliance filing, to be effective 12/1/2010.

Filed Date: 12/17/2010.

Accession Number: 20101217-5005.

Comment Date: 5 p.m. Eastern Time on Friday, January 07, 2011.

Docket Numbers: ER10-3106-001.

Applicants: Public Service Company of New Hampshire.

Description: Public Service Company of New Hampshire submits tariff filing per 35: Compliance filing, to be effective 12/1/2010.

Filed Date: 12/17/2010.

Accession Number: 20101217-5006.

Comment Date: 5 p.m. Eastern Time on Friday, January 07, 2011.

Docket Numbers: ER11-111-001.

Applicants: Public Service Company of New Mexico.

Description: Public Service Company of New Mexico submits tariff filing per 35: PNM-WAPA Compliance Filing to be effective 10/15/2010.

Filed Date: 12/17/2010.

Accession Number: 20101217-5023.

Comment Date: 5 p.m. Eastern Time on Friday, January 07, 2011.

Docket Numbers: ER11-1881-000; ER11-1881-001; ER11-1882-000; ER11-1882-001; ER11-1883-000; ER11-1883-001; ER11-1885-000; ER11-1885-001; ER11-1886-000; ER11-1886-001; ER11-1887-000; ER11-1887-001; ER11-1889-000; ER11-1889-001; ER11-1890-000; ER11-1890-001; ER11-1892-000; ER11-1892-001; ER11-1893-001; ER11-1894-000; ER11-1894-001.

Applicants: Burley Butte Wind Park, LLC; Golden Valley Wind Park, LLC; Milner Dam Wind Park, LLC; Oregon Trail Wind Park, LLC; Pilgrim Stage Station Wind Park, LLC; Thousand Springs Wind Park, LLC; Tuana Gulch Wind Park, LLC; Camp Reed Wind Park, LLC; Payne's Ferry Wind Park, LLC; Salmon Falls Wind Park, LLC; Yahoo Creek Wind Park, LLC.

Description: Third Supplement to the Consolidated Market-Based Rate Applications of Burley Butte Wind Park, LLC, et. al.

Filed Date: 12/17/2010.

Accession Number: 20101217-5113.

Comment Date: 5 p.m. Eastern Time on Friday, January 07, 2011.

Docket Numbers: ER11-2039-000; ER11-2039-001.

Applicants: E-T Global Energy, LLC.

Description: Supplemental Information of Jim Wagner re Petition for Acceptance of Initial Tariff Waivers and Blanket Authority.

Filed Date: 12/10/2010.

Accession Number: 20101210-5236.

Comment Date: 5 p.m. Eastern Time on Monday, January 03, 2011.

Docket Numbers: ER11-2370-000.

Applicants: Cambria CoGen Company.

Description: Cambria Submits Corrected App. B.

Filed Date: 12/16/2010.

Accession Number: 20101216-5124.

Comment Date: 5 p.m. Eastern Time on Thursday, January 06, 2011.

Docket Numbers: ER11-2394-000.

Applicants: Select Energy New York, Inc.

Description: Select Energy New York, Inc. submits tariff filing per 35.15: Notice of Cancellation of Market-Based Rate FERC Electric Tariff to be effective 2/14/2011.

Filed Date: 12/16/2010.

Accession Number: 20101216-5157.

Comment Date: 5 p.m. Eastern Time on Thursday, January 06, 2011.

Docket Numbers: ER11-2395-000.

Applicants: Westar Energy, Inc.

Description: Westar Energy, Inc. submits tariff filing per 35.13(a)(2)(iii: Changes to Attach H-1, Projected Net Revenue Req, to be effective 1/1/2011.

Filed Date: 12/17/2010.

Accession Number: 20101217-5003.

Comment Date: 5 p.m. Eastern Time on Friday, January 07, 2011.

Docket Numbers: ER11-2396-000.

Applicants: ISO New England Inc., New England Power Pool Participants Commission.

Description: ISO New England Inc. submits tariff filing per 35.13(a)(2)(iii: Revisions to Financial Assurance Policy to be effective 2/18/2011.

Filed Date: 12/17/2010.

Accession Number: 20101217-5010.

Comment Date: 5 p.m. Eastern Time on Friday, January 07, 2011.

Docket Numbers: ER11-2397-000.

Applicants: Louisville Gas and Electric Company.

Description: Louisville Gas and Electric Company submits tariff filing per 35.13(a)(2)(iii: 12_17_10_Revisions to Pro Forma OATT NITSA_NOA to be effective 12/20/2010.

Filed Date: 12/17/2010.

Accession Number: 20101217-5040.

Comment Date: 5 p.m. Eastern Time on Friday, January 07, 2011.

Docket Numbers: ER11-2398-000.

Applicants: Pan American Energy, LLC.

Description: Pan American Energy, LLC submits tariff filing per 35.12: Market-Based Rate Initial Tariff Baseline to be effective 2/20/2011.

Filed Date: 12/17/2010.

Accession Number: 20101217-5044.

Comment Date: 5 p.m. Eastern Time on Friday, January 07, 2011.

Docket Numbers: ER11-2399-000.

Applicants: Eurus Combine Hills I LLC.

Description: Eurus Combine Hills I LLC submits tariff filing per 35: Order 697 Compliance and Request for Change in Category to be effective 12/18/2010.

Filed Date: 12/17/2010.

Accession Number: 20101217-5077.

Comment Date: 5 p.m. Eastern Time on Friday, January 07, 2011.

Docket Numbers: ER11-2400-000.

Applicants: ISO New England Inc., New England Power Pool Participants Commission.

Description: ISO New England Inc. submits tariff filing per 35.13(a)(2)(iii: FCM/VAR Conforming Revisions to be effective 3/11/2011.

Filed Date: 12/17/2010.

Accession Number: 20101217-5082.

Comment Date: 5 p.m. Eastern Time on Friday, January 07, 2011.

Docket Numbers: ER11-2401-000.

Applicants: Southwest Power Pool, Inc.

Description: Southwest Power Pool, Inc. submits tariff filing per 35.13(a)(2)(iii: Ministerial Filing to Reflect Language Accepted in Docket No. ER09-1254-002 to be effective 7/26/2010.

Filed Date: 12/17/2010.

Accession Number: 20101217-5091.

Comment Date: 5 p.m. Eastern Time on Friday, January 07, 2011.

Docket Numbers: ER11-2402-000.

Applicants: New York Independent System Operator, Inc.

Description: New York Independent System Operator, Inc. submits tariff filing per 35.13(a)(2)(iii: Service Agreement No. 316 Niagara Mohawk and WPS Syracuse Generation to be effective 2/15/2011.

Filed Date: 12/17/2010.

Accession Number: 20101217-5092.

Comment Date: 5 p.m. Eastern Time on Friday, January 07, 2011.

Docket Numbers: ER11-2403-000.

Applicants: Tampa Electric Company.

Description: Tampa Electric Company submits tariff filing per 35.13(a)(2)(iii: Service Agreement No. 6 With RCID to be effective 12/18/2010.

Filed Date: 12/17/2010.

Accession Number: 20101217-5126.

Comment Date: 5 p.m. Eastern Time on Friday, January 07, 2011.

Docket Numbers: ER11-2403-000.

Applicants: Tampa Electric Company.

Description: Tampa Electric Company submits tariff filing per 35.13(a)(2)(iii: Service Agreement No. 6 With RCID to be effective 12/18/2010.

Filed Date: 12/17/2010.

Accession Number: 20101217-5127.

Comment Date: 5 p.m. Eastern Time on Friday, January 07, 2011.

Take notice that the Commission received the following electric securities filings:

Docket Numbers: ES11-11-000.

Applicants: Northern Pass Transmission LLC.

Description: Application of Northern Pass Transmission LLC.

Filed Date: 12/16/2010.

Accession Number: 20101216-5198.

Comment Date: 5 p.m. Eastern Time on Thursday, January 06, 2011.

Take notice that the Commission received the following public utility holding company filings:

Docket Numbers: PH11-5-000.

Applicants: National Fuel Gas Company.

Description: Change of Status Report for An Exempt Holding Company filed on behalf of National Fuel Gas.

Filed Date: 12/16/2010.

Accession Number: 20101216-5191.

Comment Date: 5 p.m. Eastern Time on Thursday, January 06, 2011.

Docket Numbers: PH11-6-000.

Applicants: CTG Resources, Inc.

Description: FERC-65A Exemption Notification of CTG Resources, Inc.

Filed Date: 12/16/2010.

Accession Number: 20101216-5195.

Comment Date: 5 p.m. Eastern Time on Thursday, January 06, 2011.

Docket Numbers: PH11-7-000.

Applicants: UIL Holdings Corporation.

Description: Notice of Material Change in Facts of UIL Holdings Corporation.

Filed Date: 12/16/2010.

Accession Number: 20101216-5196.

Comment Date: 5 p.m. Eastern Time on Thursday, January 06, 2011.

Docket Numbers: PH11-8-000.

Applicants: Berkshire Energy Resources, Connecticut Energy Corp.

Description: Notice of Material Change in Facts of Berkshire Energy Resources and Connecticut Energy Corporation.

Filed Date: 12/16/2010.

Accession Number: 20101216-5197.

Comment Date: 5 p.m. Eastern Time on Thursday, January 06, 2011.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov or call (866) 208-3676 (toll free). For TTY, call (202) 502-8659.

Nathaniel J. Davis, Sr.,
Deputy Secretary.

[FR Doc. 2010-32648 Filed 12-27-10; 8:45 am]

BILLING CODE 6717-01-P